DEPARTMENT OF THE TREASURY

Office of Foreign Assets Control

Unblocking of Specially Designated Nationals and Blocked Persons Pursuant to Executive Order 13391

AGENCY: Office of Foreign Assets Control, Treasury.

ACTION: Notice.

SUMMARY: The U.S. Department of the Treasury's Office of Foreign Assets Control (OFAC) is publishing the name of one individual whose property and interests in property have been unblocked pursuant to Executive Order 13391 of November 22, 2005, “Blocking Property of Additional Persons Undermining Democratic Processes or Institutions in Zimbabwe.”

DATES: OFAC's actions described in this notice are effective as of March 27, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410 (not toll free numbers).

SUPPLEMENTARY INFORMATION:

Electronic Availability

The SDN List and additional information concerning OFAC sanctions programs are available from OFAC's Web site (www.treasury.gov/ofac).

Notice of OFAC Actions

On March 27, 2017, OFAC, in consultation with the U.S. Department of State, removed from the SDN List the individual listed below, whose property and interests in property were blocked pursuant to Executive Order 13391 (E.O. 13391).

1. GAMBE, Theophilus Pharaoh; DOB 20 Jun 1959; Passport ZA567403 (Zimbabwe); Chairman, Electoral Supervisory Commission (individual) [ZIMBABWE—E.O. 13391].

Dated: March 27, 2017.
Andrea M. Gacki,
Acting Director, Office of Foreign Assets Control.

[FR Doc. 2017-06302 Filed 3-29-17; 8:45 am]

BILLING CODE 4810-AL-P